DEPARTMENT OF DEFENSE

GENERAL SERVICES ADMINISTRATION

NATIONAL AERONAUTICS AND SPACE ADMINISTRATION

48 CFR Parts 16, 32, and 52

[FAR Case 2004-015]

RIN 9000-AK32

Federal Acquisition Regulation; Payments Under Time-and-Materials and Labor-Hour Contracts

AGENCIES: Department of Defense (DoD), General Services Administration (GSA), and National Aeronautics and Space Administration (NASA).

ACTION: Proposed rule; reopening of comment period.

SUMMARY: The Civilian Agency Acquisition Council and the Defense Acquisition Regulations Council (Councils) are extending the date for submittal of public comments by two weeks for the proposed rule regarding payments under Time-and-Materials (T&M) and Labor-Hour (LH) Contracts. The proposed rule was published in the Federal Register at 70 FR 56314, September 26, 2005.

DATES: Interested parties should submit written comments on the proposed rule to the FAR Secretariat at the address shown in the proposed rule on or before December 9, 2005 to be considered in the formulation of a final rule.

ADDRESSES: Submit comments identified by FAR case 2004-015 by any of the following methods:

• Federal eRulemaking Portal: http://www.regulations.gov. Follow the instructions for submitting comments.

• Agency Web Site: http://www.acqnet.gov/far/ProposedRules/proposed.htm. Click on the FAR case number to submit comments.

• E-mail: farcase.2004-015@gsa.gov. Include FAR case 2004-015 in the subject line of the message.

• Fax: 202-501-4067.

• Mail: General Services Administration, Regulatory Secretariat (VIR), 1800 F Street, NW, Room 4035, ATTN: Laurieann Duarte, Washington, DC 20405.

Instructions: Please submit comments only and cite FAR case 2004-015 in all correspondence related to this case. All comments received will be posted without change to http://www.acqnet.gov/far/ProposedRules/proposed.htm, including any personal and/or business confidential information provided.

FOR FURTHER INFORMATION CONTACT: For clarification of content, contact Mr. Jeremy Olson, Procurement Analyst, at (202) 501-3221. Please cite FAR case 2004-015. Contact the FAR Secretariat at (202) 501-4755 for information pertaining to status or publication schedules.

List of Subjects in 48 CFR Parts 16, 32, and 52

Government procurement.

Dated: November 22, 2005.
Gerald Zaffos,
Director, Contract Policy Division.

[FR Doc. 05-23395 Filed 11-28-05; 8:45 am]

BILLING CODE 6820-EP-S